DEPARTMENT OF THE INTERIOR

National Park Service

[N6435; NPS-WASO-NAGPRA-NPS0040845; PPWOCRADN0-PCU00RP14.R50000]

Notice of Inventory Completion: Kansas State Historical Society, Topeka, KS

AGENCY: National Park Service, Interior.

ACTION: Notice.

SUMMARY: In accordance with the Native American Graves Protection and Repatriation Act (NAGPRA), the Kansas State Historical Society (KSHS) has completed an inventory of human remains and associated funerary objects and has determined that there is a cultural affiliation between the human remains and associated funerary objects and Indian Tribes or Native Hawaiian organizations in this notice.

DATES: Repatriation of the human remains and associated funerary objects in this notice may occur on or after September 22, 2025.

ADDRESSES: Send written requests for repatriation of the human remains and associated funerary objects in this notice to Dr. Nicole Klarmann, Kansas State Historical Society, 6425 SW 6th Avenue, Topeka, KS 66615-1099, email kshs.nagpra@ks.gov.

SUPPLEMENTARY INFORMATION: This notice is published as part of the National Park Service's administrative responsibilities under NAGPRA. The determinations in this notice are the sole responsibility of the KSHS, and additional information on the determinations in this notice, including the results of consultation, can be found in its inventory or related records. The National Park Service is not responsible for the determinations in this notice.

Abstract of Information Available

Human remains representing, at least, one individual have been identified from site 14EW485 in Ellsworth County, KS (UBS 2010-06). No associated funerary objects are present. A human tooth was found in the collections by KSHS lab staff.

Human remains representing, at least, three individuals have been identified from the Davis site (14GE141) in Geary County, KS (UBS 1991-37). The 75 associated funerary objects are pottery sherds, projectile points, a scraper, chipped stone including quartz points and an obsidian core. Human remains and objects were removed from this mound by the landowner in 1879.

Human remains representing, at least, 13 individuals have been identified from the Schiller site (14GE305) in Geary County, KS (UBS 1991-46). The 817 associated funerary objects are projectile points, bone awls, bone hairpins, animal teeth, glass beads, shell beads, and bird bone beads and fragments. The human remains and objects were removed from a mound near Junction City in the 1880's and given to KSHS in 1903 and 1904.

Human remains representing, at least, five individuals have been identified from the Neimuller site (14GE301/14GE3) in Geary County, KS (UBS 1992-16). The 14 associated funerary objects are a pottery sherd, flint chips, and a shell fragment. KSHS completed a salvage excavation after the two stone mounds had already been looted and excavated over the decades.

Human remains representing, at least, three individuals have been identified from Geary County, KS (UBS 1995-16). The one associated funerary object is a bone bead. The remains were removed from a mound near Ft. Riley by an individual who then sold them to a museum.

Human remains representing, at least, one individual have been identified from the Henderson/Indian Statue site (14GE304) in Geary County, KS (UBS 2000-34). The 50 associated funerary objects are dart points, arrow points, cutting and scraping tools, pipestone, pottery, knives, an ax, and stone. This site was disrupted by pothunting and the erection of a statue. The landowner gave the human remains and objects to KSHS in 1900.

Human remains representing, at least, one individual have been identified from the Jewell site (14GE306) in Geary County, KS (UBS 2000-35). The six associated funerary objects are shell fragments, fossilized bone, an unmodified chert chip, and a unifacial scraper. The human remains and objects were collected from the surface of a mound burial by a KSHS archaeologist.

The eight associated funerary objects from site 14LY304 in Lyon County, KS (UBS 2024-16) are faunal remains and a flake. A rock filled mound was found atop a ridge and was recorded by KSHS in 1964. The University of Tennessee, Knoxville has the associated human remains from this site.

Human remains representing, at least, four individuals have been identified from Range Mound (14ML307) in Mitchell County, KS (UBS 1990-29). The 281 associated funerary objects are shell beads, pottery sherds, bones from various animals including deer, puma, turtle, pronghorn, bobcat, badger, turkey, some modified, chipped stone tools and debris. The human remains and objects are from a rock-filled burial mound that was excavated by KSHS prior to a housing project taking place. There may be shellac on the remains.

Human remains representing, at least, seven individuals have been identified from White Mound (14MO323) in Morris County, KS (UBS 1991-56). The 2,116 associated funerary objects are partial pottery vessels, pottery sherds, projectile points, a scraper, chipped stone debris, shell disc beads, and shell pendants. KSHS excavated this mound as part of the Council Grove reservoir project in 1964. Some of the pots and bowls were reconstructed, however, the records do not specify which type of adhesive was used.

Human remains representing, at least, 11 individuals have been identified from the Vohs site (14OB401) in Osborne County, KS (UBS 1989-18J, UBS 1991-61). The 1,954 associated funerary objects are pottery sherds, shells, worked flint, projectile points, scrapers, rocks, quartzite, cutting tools, a possible knife, a possible shaft smoother, shale, core sections, crystalline, a glass button, hardened and baked clay, and limestone. The remains and objects were removed over time by the landowner and a collector through excavation and surface collecting.

Human remains representing, at least, one individual have been identified from Osborne County, KS (UBS 1990-06A). The 1,307 associated funerary objects are army brass buttons, mess kit and scissors, parts of a bridle and girth, brass bracelets, lead bullets, epaulet of a Lt. Colonel, doll dish, buttons, projectile points, musket caps, a brass spur, cloth, a scraper, non-human bones, a leather pouch, paint, rocks, stone, and beads. The remains and objects were excavated by a professor and his students in 1933. Varnish and glue are present on the remains.

Human remains representing, at least, two individuals have been identified from Osborne County, KS (UBS 1994-02). No associated funerary objects are present. These remains were removed by children playing near the North Fork Solomon River in Downs, KS in 1916.

Human remains representing, at least, one individual have been identified from the Markley House 1 site (14OT308) in Ottawa County, KS (UBS 2001-31). No associated funerary objects are present. Human teeth were found while excavating an earth lodge in the 1940's.

Human remains representing, at least, one individual have been identified from site 14OT402 in Ottawa County, KS (UBS 2008-07). The one associated funerary object is a celt. A bone fragment was found during lab analysis of an assemblage from this site.

Human remains representing, at least, one individual have been identified from the Minneapolis site (14OT5) in Ottawa County, KS (UBS 2011-08). The 14,007 associated funerary objects are bone or shell beads, mussel shells, various chipped stone tools, various ground stone tools, pottery sherds, daub, burned earth, animal bone, and various animal bone tools including needles, potential whistle, fishhook, scapula hoes, awls, pendants, digging stick tips. The human remains and objects were taken by a resident of Salina from the surface of the mound/house feature. Some of the human bone fragments have been reconstructed with glue.

Human remains representing, at least, one individual have been identified from site 14RU326 in Russell County, KS (UBS 1990-36). No associated funerary objects are present. The remains were said to be found on the surface of a pre-historic site on a terrace of Paradise Creek.

Human remains representing, at least, two individuals have been identified from site 14SA2 in Saline County, KS (UBS 1990-07). The 900 associated funerary objects are projectile points, scrapers, a pipe bowl, knife blades, manos, shaft smoothers, and pottery sherds. Two human teeth were found during lab processing and were removed from a possible ossuary.

The 233 associated funerary objects identified from the Salina Burial Pit/Whiteford-Price site (14SA1) in Saline County, KS (UBS 1991-74) are clam shell beads, biface sections, notched points, pottery sherds, worked bone, shells, corn, wax cast of a pot, abrader, chipped stone tools, salina burial pit key, and a pot with “Indian Burial Salina, Kansas” written on it (possible souvenir). Human remains were left in place, however, these objects were removed prior to the site being acquired by the state of Kansas, which then sealed the burial ground for protection. Some of the items may have been cleaned with acetone.

The 400 associated funerary objects identified from the Lindeman site (14SA412) in Saline County, KS (UBS 1996-23) are manos, abraders, hammerstone, a nutting stone, celt, scrapers, knives, a projectile point, bifaces, drills, debitage, flakes, a hoe, an awl, and pottery sherds. The human remains from this site were formerly repatriated. These are the objects removed from the site that should have originally remained with them.

Human remains representing, at least, one individual have been identified from the Blue Bead site (14SA301) in Saline County, KS (UBS 2003-01). The 13 associated funerary objects are faunal remains, debitage, burned material, glass, modern ceramic, and sandstone. Plowing and erosion exposed a burial which was removed by the landowner and given to a local museum.

Human remains representing, at least, one individual have been identified from site 14SA424 in Saline County, KS (UBS 2013-05). The 166 associated funerary objects are chipped stone tools, ground stone tools, animal bone, and pottery. The human remains and objects were removed by a local Salina resident from the ground's surface.

Human remains representing, at least, one individual have been identified from site 14SA415 in Saline County, KS (UBS 2021-05). The 921 associated funerary objects are pottery, various chipped stone tools, animal bone, charcoal, wood, burned earth, modified animal bone, and various ground stone tools. The human remains were found among funerary objects recovered near the Salina Burial pit and are associated with that site.

Human remains representing, at least, seven individuals have been identified from Clay County, KS (UBS 1996-20, UBS 1996-21, UBS 2000-39, 14CY458/UBS 2001-27), Cloud County, KS (UBS 2004-18), and Geary County, KS (14GE347/UBS 1990-19). No associated funerary objects are present. These remains were found in or near the Kansas River, the Republican River, or an unrecorded gravel bar.

Human remains representing, at least, four individuals have been identified from Ellsworth County, KS (UBS 1990-04), Ottawa County, KS (UBS 2016-08), and Saline County, KS (UBS 1998-17, UBS 2014-01). No associated funerary objects are present. These remains have minimal information and are limited to county-level provenience. UBS 2014-01 has varnish or a similar product present and a paper product that is somehow adhered to the remains.

Unless noted above, no known hazardous substances were used to treat any of the human remains or associated funerary objects.

Cultural Affiliation

Based on the information available and the results of consultation, cultural affiliation is reasonably identified by the geographical location or acquisition history of the human remains and associated funerary objects described in this notice.

Determinations

The KSHS has determined that:

• The human remains described in this notice represent the physical remains of 72 individuals of Native American ancestry.

• The 23,270 objects described in this notice are reasonably believed to have been placed intentionally with or near individual human remains at the time of death or later as part of the death rite or ceremony.

• There is a connection between the human remains and associated funerary objects described in this notice and the Pawnee Nation of Oklahoma and the Wichita and Affiliated Tribes (Wichita, Keechi, Waco, & Tawakonie), Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after September 22, 2025. If competing requests for repatriation are received, the KSHS must determine the most appropriate requestor prior to repatriation. Requests for joint repatriation of the human remains and associated funerary objects are considered a single request and not competing requests. The KSHS is responsible for sending a copy of this notice to the Indian Tribes and Native Hawaiian organizations identified in this notice and any other consulting parties.

Authority: Native American Graves Protection and Repatriation Act, 25 U.S.C. 3003, and the implementing regulations, 43 CFR 10.10.

Dated: August 6, 2025.
Melanie O'Brien,
Manager, National NAGPRA Program.

[FR Doc. 2025-15966 Filed 8-20-25; 8:45 am]

BILLING CODE 4312-52-P